DEPARTMENT OF AGRICULTURE

Forest Service

Siskiyou (OR) Resource Advisory Committee

AGENCY: Forest Service, USDA.

ACTION: Notice of meetings.

SUMMARY: The Siskiyou (OR) Resource Advisory Committee (RAC) will meet in Medford, Oregon. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: http://cloudapps-usda-gov.force.com/FSSRS/RAC_Page?id=001t0000002JcvCAAS.

DATES: The meeting will be held on the following dates:

• Wednesday, October 2, 2019, from 9:00 a.m. to 12:00 p.m., and

• Thursday, October 17, 2019, from 9:00 a.m., if needed.

A public notification will be made in local newspapers if a change in meeting date is required.

All RAC meetings are subject to cancellation. For status of the meeting prior to attendance, please contact Virginia Gibbons, RAC Coordinator, by phone at 541-618-2113 or via email at vgibbons@fs.fed.us.

ADDRESSES: The meetings will be held at the Medford Interagency Office, 3040 Biddle Road, Medford, Oregon.

Written comments may be submitted as described under Supplementary Information. All comments, including names and addresses when provided, are placed in the record and are available for public inspection and copying. The public may inspect comments received at the Medford Interagency Office. Please call ahead at 541-618-2200 to facilitate entry into the building.

FOR FURTHER INFORMATION CONTACT: Virginia Gibbons, RAC Coordinator, by phone at 541-618-2113 or via email at vgibbons@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to review, discuss, and finalize recommendations on proposed Title II projects under the current SRS Act reauthorization. This meeting is a follow-up to the RAC meeting conducted on June 12-13, 2019, in order to meet the quorum requirement.

The meeting is open to the public. The agenda will include time for people to make oral statements of three minutes or less. Individuals wishing to make an oral statement should request in writing by Friday, September 26, 2019, to be scheduled on the agenda, or on a first come-first served basis at the meeting. Anyone who would like to bring related matters to the attention of the committee may file written statements with the committee staff before or after the meeting. Written comments and requests for time for oral comments must be sent to Virginia Gibbons, RAC Coordinator, 3040 Biddle Road, Medford, Oregon 97504; by email to vgibbons@fs.fed.us, or via facsimile to 541-618-2144.

Meeting Accommodations: If you are a person requiring reasonable accommodation, please make requests in advance for sign language interpreting, assistive listening devices, or other reasonable accommodation. For access to the facility or proceedings, please contact Virginia Gibbons, RAC Coordinator, by phone at 541-618-2113 or via email at vgibbons@fs.fed.us. All reasonable accommodation requests are managed on a case by case basis.

Dated: September 10, 2019.
Cikena Reid,
USDA Committee Management Officer.

[FR Doc. 2019-20450 Filed 9-20-19; 8:45 am]

BILLING CODE 3411-15-P